DEPARTMENT OF TRANSPORTATION

Federal Highway Administration

Notice of Final Federal Agency Actions on Proposed Highway in California

AGENCY: Federal Highway Administration (FHWA), DOT.

ACTION: Notice of limitation on claims for judicial review of actions by FHWA and other Federal agencies.

SUMMARY: This notice announces actions taken by the FHWA and other Federal agencies that are final within the meaning of 23 U.S.C. 139(l)(1). The actions relate to a proposed State Route 99 project, Goshen to Kingsburg Six-Lane Freeway project between kilometer posts 66.4 to 86.8 (post miles 41.3 to 53.9) in Tulare County, and kilometer posts 0.0 to 1.6 (post miles 0.0/1.0) in Fresno County, State of California. Those actions grant approvals for the project.

DATES: By this notice, the FHWA is advising the public of final agency actions subject to 23 U.S.C. 139(l)(1). A claim seeking judicial review of the Federal agency actions on the highway project will be barred unless the claim is filed on or before November 5, 2007. If the Federal law that authorizes judicial review of a claim provides a time period of less than 180 days for filing such claim, then that shorter time period still applies.

FOR FURTHER INFORMATION CONTACT: Mayela Sosa, Central Team Leader, Federal Highway Administration, 650 Capitol Mall, #4-100, Sacramento, CA 95814, weekdays 7 a.m. to 4 p.m. (Pacific time), telephone (916) 498-5057; e-mail: mayela.sosa@fhwa.dot.gov or Juergen Vespermann, Senior Environmental Planner, California Department of Transportation (Caltrans), 2015 E. Shields Avenue, Suite 100, Fresno, CA 93726, weekdays 7 a.m. to 4 p.m. (Pacific time), telephone (559) 243-8157, e-mail: juergen_vespermann@dot.ca.gov.

SUPPLEMENTARY INFORMATION: Notice is hereby given that the FHWA and other Federal agencies have taken final agency actions by issuing approvals for the following State Route 99 project in the State of California. The Goshen to Kingsburg Six-Lane Freeway project would alleviate traffic congestion and delays, improve safety and operations, and attain an acceptable Level of Service to meet the existing and projected traffic volumes within the project limits. The 13.6-mile project is located on State Route 99 between Goshen in Tulare County to Kingsburg in Fresno County, California.

The actions by the Federal agencies and the laws under which such actions were taken, are described in the Environmental Assessment (EA)/Finding of No Significant Impact (FONSI) for the project, approved on October 23, 2006 and in other documents in the FHWA administrative record. The EA/FONSI and other documents are available by contacting FHWA or Caltrans at the addresses provided above. The FHWA EA/FONSI can be viewed and downloaded from the project Web site at: http://www.dot.ca.gov/dist6/environmental/envdocs/envTulFre99EAIS.pdf.

This notice applies to all Federal agency decisions as of the issuance date of this notice and all laws under which such actions were taken, including but not limited to:

1. General: National Environmental Policy Act (NEPA) [42 U.S.C. 4321—4351]; and Federal-Aid Highway Act [23 U.S.C. 109 and 23 U.S.C. 128].

2. Air: Clean Air Act [42 U.S.C. 7401—7671(q)].

3. Land: Landscape and Scenic Enhancement (Wildflowers) [23 U.S.C. 319].

4. Wetlands and Water Resources: Safe Drinking Water Act [42 U.S.C. 300(f) -300(j)(6)]; and Wetlands Mitigation [23 U.S.C. 103(b)(6)(m) and 133(b)(11)].

5. Wildlife: Endangered Species Act [16 U.S.C. 1531—1544 and Section 1536]; Fish and Wildlife Coordination Act [16 U.S.C. 661—667(d)]; and Migratory Bird Treaty Act [16 U.S.C. 703—712].

6. Historic and Cultural Resources: Section 106 of the National Historic Preservation Act of 1966, as amended [16 U.S.C. 470(f) et seq.]; Archaeological and Historic Preservation Act [16 U.S.C. 469—469c]; Archaeological Resources Protection Act of 1979 [16 U.S.C. 470aa et seq]; and Native American Graves Protection and Repatriation Act [25 U.S.C. 3001—3013].

7. Social and Economic: Civil Rights Act of 1964 [42 U.S.C. 2000(d)—2000(d)(1)]; Farmland Protection Policy Act [7 U.S.C. 4201—4209]; and The Uniform Relocation Assistance and Real Property Acquisition Act of 1970, as amended.

8. Hazardous Materials: Comprehensive Environmental Response, Compensation, and Liability Act [42 U.S.C. 9601—9675]; Superfund Amendments and Reauthorization Act of 1986; and Resource Conservation and Recovery Act [42 U.S.C. 6901—6992(k)].

9. Executive Orders: E.O. 11990 Protection of Wetlands; E.O. 11988 Floodplain Management; E.O. 12898 Federal Actions to Address Environmental Justice in Minority Populations and Low Income Populations; E.O. 11593 Protection and Enhancement of the Cultural Environment; E.O. 13007 Indian Sacred Sites; E.O. 13287 Preserve America; 13175 Consultation and Coordination with Indian Tribal Governments; E.O. 11514 Protection and Enhancement of Environmental Quality; and E.O. 13112 Invasive Species.

(Catalog of Federal Domestic Assistance Program Number 20.205, Highway Planning and Construction. The regulations implementing Executive Order 12372 regarding intergovernmental consultation on Federal programs and activities apply to this program.)

Authority: 23 U.S.C. 139(l)(1)

Issued on: April 30, 2007.
Maiser Khaled,
Director, Project Development & Environment, Sacramento, California.

[FR Doc. E7-8806 Filed 5-8-07; 8:45 am]

BILLING CODE 4910-RY-P